OFFICE OF THE UNITED STATES TRADE REPRESENTATIVE

Generalized System of Preferences (GSP): Initiation of a Review To Consider the Designation of the Socialist Republic of Vietnam as a Beneficiary Developing Country Under the GSP

AGENCY: Office of the United States Trade Representative.

ACTION: Notice and solicitation of public comment.

SUMMARY: This notice announces the initiation of a review to consider designating the Socialist Republic of Vietnam as a beneficiary developing country (BDC) for purposes of the GSP program, and solicits public comments on whether Vietnam meets certain eligibility criteria for designation as a BDC. Comments are due by Monday, August 4, 2008, and must be submitted in accordance with the requirements set out below.

ADDRESSES: Submit comments by electronic mail (e-mail) to: FR0711@USTR.EOP.GOV. (Note: the digit before the number in the e-mail address is the number zero, not a letter.)

FOR FURTHER INFORMATION CONTACT: For assistance, contact Regina Teeter, USTR's GSP Office at 202-395-6971.

SUPPLEMENTARY INFORMATION: The GSP Subcommittee of the Trade Policy Staff Committee (TPSC) has initiated a review in order to make a recommendation to the President as to whether Vietnam meets the eligibility criteria of the GSP statute. After considering the recommendation, the President is authorized to, and may, designate Vietnam as a BDC for purposes of the GSP program.

Interested persons are invited to submit comments on whether Vietnam meets the eligibility criteria set forth below and in section 502(c) of the Trade Act of 1974, as amended (19 U.S.C. 2462(c)) (the “Act”).

Eligibility Criteria

The trade benefits of the GSP program are available to any country that the President designates as a BDC for purposes of the GSP program. In designating countries as BDCs, the President must consider among other factors, the criteria in section 502(c) of the Act. Section 502(c) provides that, in determining whether to designate any country as a GSP BDC, the President shall take into account:

1. An expression by such country of its desire to be so designated;

2. The level of economic development of such country, including its per capita gross national product, the living standards of its inhabitants, and any other economic factors which the President deems appropriate;

3. Whether or not other major developed countries are extending generalized preferential tariff treatment to such country;

4. The extent to which such country has assured the United States that it will provide equitable and reasonable access to the markets and basic commodity resources of such country and the extent to which such country has assured the United States that it will refrain from engaging in unreasonable export practices;

5. The extent to which such country is providing adequate and effective protection of intellectual property rights;

6. The extent to which such country has taken action to—

(a) Reduce trade distorting investment practices and policies (including export performance requirements); and (b) Reduce or eliminate barriers to trade in services; and

7. Whether or not such country has taken or is taking steps to afford to workers in that country (including any designated zone in that country) internationally recognized worker rights. The term “internationally recognized worker rights” is defined in section 507(4) of the Act, as amended, (19 U.S.C. 2467), to mean: (A) The right of association; (B) the right to organize and bargain collectively; (C) a prohibition on the use of any form of forced or compulsory labor; (D) a minimum age for the employment of children and a prohibition on the worst forms of child labor as defined in section 507(6) of the Act; and (E) acceptable conditions of work with respect to minimum wages, hours of work, and occupational safety and health.

Requirements for Submissions

Comments must be submitted, in English, to the Chairman of the GSP Subcommittee of the Trade Policy Staff Committee (TPSC) as soon as possible, but not later than 5:00 p.m., August 4, 2008.

In order to facilitate prompt processing of submissions, USTR strongly recommends that comments be set out in digital files attached to e-mails transmitted to the following address: FR0711@ustr.eop.gov (Note: The digit before the number in the e-mail address is the number zero, not a letter). If you are unable to provide comments by e-mail, please contact Regina Teeter, USTR's GSP Office at (202) 395-6971 to arrange for an alternative method of transmission.

Comments should be provided in a single copy and must not exceed 30 single-spaced standard letter-size pages in 12-point type or a digital file size of three megabytes. E-mails should include the following subject line: “Designation of the Socialist Republic of Vietnam as a GSP Beneficiary Country.” The transmittal message or cover letter accompanying a submission must be set out exclusively in the digital file attached to the e-mail transmission—not in the message portion of e-mail—and must include the sender's name, organization name, address, telephone number and e-mail address.

Digital files must be submitted in one of the following formats: WordPerfect (.WPD), Adobe (.PDF), MSWord (.DOC), or text (.TXT) files. Comments may not be submitted as electronic image files or contain embedded images, e.g., “.JPG”, “.TIF”, “.BMP”, or “.GIF”. Spreadsheet data may be submitted as Excel files, formatted for printing on 8½ × 11 inch paper. To the extent possible, any data accompanying the submission should be set out in the same file as the submission itself, and not in a separate file.

If a submission contains business confidential information that the submitter wishes to protect from public disclosure, the confidential submission must be marked “BUSINESS CONFIDENTIAL” at the top and bottom of each page. In addition, the submission must be accompanied by a non-confidential version that indicates, with asterisks, where confidential information was redacted or deleted. The top and bottom of each page of the non-confidential version must be marked either “PUBLIC VERSION” or “NON-CONFIDENTIAL”. Business confidential comments that are submitted without the required markings or that are not accompanied by a properly marked non-confidential version as set forth above may not be accepted or may be treated as public documents.

The digital file name assigned to any business confidential version of a submission should begin with the characters “BC-”, and the file name of the public version should begin with the characters “P-”. The “P-” or “BC-” should be followed by the name of the person (government, company, union, association, etc.) making the submission.

Public versions of all documents relating to this review will be available for review approximately two weeks after the relevant due date by appointment in the USTR public reading room, 1724 F Street, NW., Washington, DC. Appointments may be made from 9:30 a.m. to noon and 1 p.m. to 4 p.m., Monday through Friday, by calling (202) 395-6186.

Meredith Broadbent,
Assistant U.S. Trade Representative for Industry, Market Access and Telecommunications.

[FR Doc. E8-14017 Filed 6-19-08; 8:45 am]

BILLING CODE 3190-W8-P